DEPARTMENT OF EDUCATION

[Docket No.: ED-2025-SCC-0023]

Agency Information Collection Activities; Submission to the Office of Management and Budget for Review and Approval; Comment Request; Transition and Postsecondary Programs for Students With Intellectual Disabilities (TPSID) Evaluation Protocol

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before September 29, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Shedita Alston, 202-453-7090.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Transition and Postsecondary Programs for Students With Intellectual Disabilities (TPSID) Evaluation Protocol.

OMB Control Number: 1840-0825.

Type of Review: A revision of a currently approved ICR.

Respondents/Affected Public: Private Sector.

Total Estimated Number of Annual Responses: 40.

Total Estimated Number of Annual Burden Hours: 788.

Abstract: The Transition and Postsecondary Programs for Students with Intellectual Disabilities Coordinating Center (TPSID-CC) program is the evaluation arm for the work that is being completed by the TPSID program grantees. TPSID-CC uses data collected from the work that the TPSID program grantees are doing on behalf of the TPSID program participants, to establish a comprehensive research and evaluation protocol for TPSID program grantees, non-TPSID program CTP (comprehensive transition programs) and pertinent stakeholders. TPSID program grantees can use the evidence-based information they receive from the data that is collected by the TPSID-CC to find ways to apply what they have learned to their respective TPSID program projects. Simultaneously, the TPSID-CC is also providing technical assistance to build the capacity of IHEs across the country to make college possible for students with intellectual disabilities who want to go to college Data must be collected by the TPSID-CC on accreditation standards and communications with recognized accrediting agencies; descriptions and analyses of funding streams, and the impact of the TPSID-CC's technical assistance activities related to outreach and dissemination.

In October 2020, the Institute for Community Inclusion (ICI), UMass Boston received a five-year cooperative agreement from the Office of Postsecondary Education to serve as the National Coordinating Center (NCC) for colleges and universities implementing inclusive higher education programs for students with intellectual disabilities, including 22 model demonstration projects aimed at creating inclusive comprehensive transition and postsecondary programs for students with intellectual disabilities known as Transition and Postsecondary Programs for Students with Intellectual Disabilities (TPSIDs).

To reduce respondent burden, the NCC has streamlined and simplified the previously approved evaluation system for the TPSID programs. The NCC will enhance the collection and analyses of longitudinal follow-up data from TPSID model programs via an already developed and previously OMB approved evaluation system for the TPSID programs. The revised data collection system is part of an evaluation effort. The system will collect program data at the institutions from TPSID program staff via an online, secure data management system.

Ross Santy,
Chief Data Officer, Office of Planning, Evaluation and Policy Development.

[FR Doc. 2025-16656 Filed 8-28-25; 8:45 am]

BILLING CODE 4000-01-P